OVERSEAS PRIVATE INVESTMENT CORPORATION

Sunshine Act; Board of Directors Meeting

December 11, 2008.

Time and Date: Thursday, December 11, 2008, 10 a.m. (open portion); 10:15 a.m. (closed portion).

Place: Offices of the Corporation, Twelfth Floor Board Room, 1100 New York Avenue, NW., Washington, DC.

Status: Meeting open to the Public from 10 a.m. to 10:15 a.m. Closed portion will commence at 10:15 a.m. (approx.).

Matters To Be Considered:

1. President's Report.

2. Approval of September 18, 2008 Minutes (Open Portion).

Further Matters To Be Considered: (Closed to the Public 10:15 a.m.)

1. Report from Audit Committee.

2. Resolution on Housing Exposure.

3. Finance Project—Georgia.

4. Finance Project—Georgia.

5. Finance Project—Turkey.

6. Finance Project—Bulgaria and the Balkans.

7. Approval of September 18, 2008 Minutes (Closed Portion).

8. Pending Major Projects.

9. Reports.

Contact Person for Information: Information on the meeting may be obtained from Connie M. Downs at (202) 336-8438.

Dated: December 2, 2008.
Connie M. Downs,
Corporate Secretary, Overseas Private Investment Corporation.

[FR Doc. E8-28841 Filed 12-2-08; 4:15 pm]

BILLING CODE 3210-01-P